DEPARTMENT OF THE TREASURY

Senior Executive Service Performance Review Boards

AGENCY: Department of the Treasury.

ACTION: Notice of appointments to Performance Review Boards (PRBs).

SUMMARY: This notice announces the appointment of members to the Department of the Treasury's Performance Review Boards (PRBs). The purpose of these Boards are to review and make recommendations concerning proposed performance appraisals, ratings, bonuses and other appropriate personnel actions for incumbents of SES positions in the Department.

Composition of the PRB: The Boards shall consist of at least three members. In the case of an appraisal of a career appointee, more than half the members shall consist of career appointees. The persons listed below may be selected to serve on one or more PRB within Treasury.

Names for Federal Register Publication

Top Officials

• Anna Canfield Roth, Acting Assistant Secretary for Management

• Leonard Olijar, Director for the Bureau of Engraving and Printing

• Patricia Greiner, Deputy Director for Bureau of Engraving and Printing and Chief Administrative Officer

• Charlene Williams, Deputy Director for Bureau of Engraving and Printing and Chief Operating Officer

• Timothy Gribben, Commissioner for the Bureau of the Fiscal Service

• Tami Perriello, Deputy Commissioner (Finance and Administration), Bureau of the Fiscal Service

• Matthew J. Miller, Deputy Commissioner (Financial Services and Operations), Bureau of the Fiscal Service

• Jeffrey J. Schramek, Deputy Commissioner (Accounting and Shared Services), Bureau of the Fiscal Service

• Kristie L. McNally, Deputy Director of the Mint

• Jeffrey Tribiano, Deputy Commissioner for Operations Support (IRS)

• Douglas O'Donnell, Deputy Commissioner for Services and Enforcement (IRS)

• Mary G. Ryan, Administrator for the Alcohol and Tobacco Tax and Trade Bureau

• David Wulf, Deputy Administrator for the Alcohol and Tobacco Tax and Trade Bureau

• David Lebryk, Fiscal Assistant Secretary

• Laurie Schaffer, Principal Deputy General Counsel

• Addar Levi, Deputy General Counsel

• Eric Nguyen, Deputy General Counsel

Departmental Offices

• John M. Farley, Director, Executive Office for Asset Forfeiture

• Marti Pentheny Adams-Baker, Executive Secretary

• Donna Ragucci, Director for the Office of Small and Disadvantaged Business Utilization

• Janis Bowdler, Counselor for Racial Equity

• Aditi Hardikar, Deputy Chief of Staff

• Julie Siegel, Deputy Chief of Staff

• Brent Neiman, Counselor to the Secretary

• John Morton, Climate Counselor

• Andy Baukol, Counselor to the Secretary

• Jay Shambaugh, Counselor

• David Lipton, Counselor

• Brian Reissaus, DAS Investment Security Operations

• Andrew Fair, Director, Investment Reviews and Investigations

• James Secreto, Counselor

• Patricia Pollard, Deputy Assistant Secretary for International Money and Financial Policy

• Brian McCauley, Deputy Assistant Secretary, Europe and Eurasia

• Clarence Severens, Director, Office of Development Results and Accountability

• Robert Kaproth, Deputy Assistant Secretary for South and East Asia

• Michael Kaplan, Deputy Assistant Secretary for Western Hemisphere and South Asia

• Albert Lee, Director, Market Rooms

• William McDonald, Deputy Assistant Secretary for Technical Assistance Policy

• Lailee Moghtader, Deputy Assistant Secretary for Trade Policy

• Charles Moravec, Director, Multilateral Development Banks

• Jeffrey K. Baker, Treasury Attache

• Lida Fitts, Director, Energy and Infrastructure

• Eric Meyer, Deputy Assistant Secretary for Africa, Middle East and MDB Operations

• Jason R. Orlando, Director, Office of Technical Assistance

• Sean Hoskins, Director of Policy (FSOC)

• Gregory Till, Deputy Assistant Secretary for Fiscal Operations and Policy

• Christopher H. Kubeluis, Director for the Office of Fiscal Projections

• Walter Kim, Director for the Office of Financial Institutions and Policy

• Felton Booker, Deputy Assistant Secretary, Financial Institution Policy

• Noel Poyo, Deputy Assistant Secretary for Community and Economic Development

• Christopher Weaver, Director, Office of Community and Economic Development

• Brian Peretti, Director of International Coordination and Mission Support

• Steven E. Seitz, Director for the Office of Federal Insurance Office

• Stephanie Schmelz, Deputy Director, Federal Insurance

• Todd Conklin, Director of Cyber Policy, Preparedness and Response

• Jodie L. Harris, Director for Community Development and Financial Institutions

• Dennis E. Nolan, Deputy Director for Finance and Operations

• Marcia Sigal, Deputy Director for Policy and Programs

• Brian M. Smith, Deputy Assistant Secretary for Federal Finance

• Gary Grippo, Deputy Assistant Secretary for Public Finance

• Bonnie Adair Morse, Deputy Assistant Secretary for Capital Access

• Fred Pietrangeli, Director for the Office of Debt Management

• Nandini Ajmani, Deputy Assistant Secretary, Capital Markets

• Daniel J. Harty, Director, Capital Markets

• Melissa Moye, Director for State and Local Finance

• Andrea Gacki, Director for the Office of Foreign Assets Control

• Bradley T. Smith, Deputy Director for the Office of Foreign Assets Control

• Gregory Gatjanis, Associate Director for the Office of Global Targeting

• Lisa M. Palluconi, Associate Director for the Office of Program Policy and Implementation, Office of Foreign Assets Control

• John H. Battle, Associate Director for Resource Management, Office of Foreign Assets Control

• Billy Bradley, Deputy Director, Treasury Executive Office for Asset Forfeiture

• Lawrence Scheinert, Associate Director for the Office of Compliance and Enforcement

• Ripley Quinby, IV, Deputy Associate Director, Office of Global Targeting

• Paul Ahern, Counselor to the Under Secretary for Terrorism and Financial Intelligence

• Scott Rembrandt, Deputy Assistant Secretary for the Office of Strategic Policy, Terrorist Financing and Financial Crimes

• Anna Morris, Deputy Assistant Secretary for Global Affairs (Europe and Middle East)

• Rhett Skiles, Deputy Assistant Secretary, Cyber Intelligence

• Katherine Amlin, Deputy Assistant Secretary for Analysis and Production

• Michael Neufeld, Principal Deputy Assistant Secretary for Support and Technology

• Patrick Conlon, Director for the Office of Economics and Finance

• Corey Tellez, Deputy Assistant Secretary for Legislative Affairs (International Affairs)

• Christopher Burdick, Deputy Assistant Secretary for Legislative Affairs (Terrorism and Financial Intelligence)

• Angel Nigaglioni, Deputy Assistant Secretary for Legislative Affairs (Appropriations and Management)

• Isabella More, Deputy Assistant Secretary for Legislative Affairs (Oversight)

• Michael Gwin, Deputy Assistant Secretary for Public Affairs (Terrorism and Financial Intelligence)

• Christopher J. Soares, Director, Office of Microeconomic Analysis

• Jonathan S. Jaquette, Director for Receipts Forecasting

• Thomas West, Jr., Deputy Assistant Secretary for Tax Policy

• Neviana Petkova, Director for Individual Business and International Taxation

• Edith Brashares, Director for the Office of Tax Analysis

• Curtis Carlson, Director for Business Revenue

• Adam Cole, Director for Individual Taxation

• Robert E. Gillette, Director for Economic Modeling and Computer Applications

• Gregory Leiserson, Deputy Assistant Secretary for Tax Analysis

• Itai Grinberg, Deputy Assistant Secretary for Multilateral Tax

• Natasha Sarin, Counselor for Tax Policy and Implementation

• Jacob Leibenluft—Chief Recovery Officer

• Jaime Rullan, Deputy Chief Financial Officer

• Jeffrey Stout, Deputy Chief Program Officer for Small Business and Industry

• Ryan Law, Deputy Assistant Secretary for Privacy Transparency and Records

• Robert Mahaffie, Deputy Assistant Secretary for Management and Budget

• Tonya Burton, Director for the Office of Financial Management

• Lenora Stiles, Director, Strategic Planning and Performance Improvement

• William Sessions, Departmental Budget Director

• Carole Y. Banks, Deputy Chief Financial Officer

• Nicole K. Evans, Director, Office of Procurement Executive

• J. Trevor Norris, Deputy Assistant Secretary for Human Resources and Chief Human Capital Officer

• Lorraine Cole, Chief Diversity and Inclusion for Departmental Offices

• Colleen Heller-Stein, Human Resource Officer for Departmental Offices/Deputy Chief Human Capital Officer

• Nancy Ostrowski, Director of DC Pensions

• David Aten, Director, Associate Chief Human Capital Officer for HCSM

• Antony P. Arcadi, Deputy Assistant Secretary for Management, Information Systems and Chief Information Officer

• Nicolaos Totten, Associate Chief Information Officer for Enterprise Application Services

• Michael O. Thomas, Deputy Assistant Secretary for Treasury Operations

• Sarah Nur, Associate Chief Information Officer for Cyber Security

• Roger Mishoe, Chief Data Officer

• Sofia Lofvenholm, Associate Chief Information Officer for IT Strategy, Technical Management and Chief Technology Officer

Office of the General Counsel

• Heather Trew, Assistant General Counsel (Enforcement and Intelligence)

• Mark Vetter, Deputy Assistant General Counsel (Ethics)

• Frank P. Menna, Deputy Assistant General Counsel (Enforcement and Intelligence)

• Jacob Loshin, Principal Deputy Assistant General Counsel (Enforcement and Intelligence)

• Jason M. Prince, Chief Counsel, Office of Foreign Assets Control

• Eric Froman, Assistant General Counsel (Banking and Finance)

• Stephen Milligan, Deputy Assistant General Counsel (Banking and Finance)

• Theodore Posner, Assistant General Counsel (International Affairs)

• Alexandra Yestrumskas, Deputy Assistant General Counsel (International Affairs)

• Jeffrey M. Klein, Deputy Assistant General Counsel (International Affairs)

• Brian J. Sonfield, Assistant General Counsel (General Law, Ethics and Regulation)

• Michael Briskin, Deputy Assistant General Counsel (General Law and Regulation)

• Krishna Prasad Vallabhaneni, Tax Legislative Counsel

• Carol Ann Weiser, Benefits Tax Counsel

• Helen Morrison, Deputy Benefits Tax Counsel

• Brett Steven York, Deputy Tax Legislative Counsel

• Michelle Dickerman, Deputy Assistant General Counsel for Oversight and Litigation

• Katrina Carroll, Chief Counsel for the Financial Crimes Enforcement Network

• Heather Book, Chief Counsel for the Bureau of Engraving and Printing

• John F. Schorn, Chief Counsel for the U.S. Mint

• Lillian Lai-Lin Cheng, Chief Counsel for the Bureau of the Fiscal Service

Bureau of Engraving and Printing

• Dwayne Thomas, Associate Director, D.C. Replacement Facility Program

• Steven Fisher, Associate Director (Chief Financial Officer)

• Richard Roy Clark, Associate Director (Quality)

• Justin D. Draheim, Associate Director (Product Design and Development)

• Harinder Singh, Associate Director, (Chief Information Officer)

• Ronald Voelker, Associate Director, Manufacturing (WCF)

• Yolanda Ward, Associate Director, Manufacturing (DCF)

Financial Crimes Enforcement Network

• Himamauli Das, Counselor to the Director of the Financial Crimes and Enforcement Network

• Amy L. Taylor, Associate Director, Technology Solutions and Services/CIO

• Peter Bergstrom, Associate Director, Management/CFO

• Felicia Swindells, Associate Director, Policy Division

• Jimmy Kirby Jr, Associate Director, Intelligence Division

• Kenneth L. O'Brien, Deputy Associate Director, Chief Technology Officer

• Matthew R. Stiglitz, Associate Director, Global Investigations Division

• Timothy Ott, Strategic Advisor

U.S. Mint

• Matthew Holben, Associate Director for Sales and Marketing/Chief Marketing and Sales Officer

• David Croft, Associate Director for Manufacturing

• Francis O'Hearn, Associate Director for Information Technology

• Robert Kuryzna, Plant Manager, Philadelphia

• B.B. Craig, Associate Director for Environment, Safety and Health

• Randall Johnson, Plant Manager for Denver

Tax and Trade Bureau

• Cheri Mitchell, Assistant Administrator, Management/CFO

• Robert Hughes, Assistant Administrator, Information Resources/CIO

• Elisabeth C. Kann, Assistant Administrator, External Affairs/Chief of Staff

• Emily Streett, Assistant Administrator, Headquarters Operations

• Caroline F. May, Assistant Administrator, Field Operations

Bureau of the Fiscal Service

• Keith Alderson, Director (Debt Management Services Operations Center-East)

• Douglas Anderson, Assistant Commissioner (Retail Securities Services)

• Marisa F. Anthony, Deputy Assistant Commissioner (Debt Management Services)

• Daniel Berger, Assistant Commissioner (Management and Chief Financial Officer)

• Linda C. Chero, Assistant Commissioner (Payment Management)

• David T. Copenhaver, Assistant Commissioner (Wholesale Securities Services)

• Christina M. Cox, Deputy Assistant Commissioner (Payment Management)

• Paul E. Deuley, Executive Director (Administrative Resource Center)

• Paula E. Corbin, Deputy Assistant Commissioner (Accounting Support and Outreach)

• Peter T. Genova, Deputy Chief Information Officer

• Joseph Gioeli, Assistant Commissioner (Chief Information Officer/Information and Security Services)

• Adam H. Goldberg, Senior Advisor, Services and Programs

• Jason T. Hill, Deputy Assistant Commissioner (Shared Services)

• Wallace H. Ingram, Director (Debt Management Services Operations Center—West)

• Amanda M. Kupfner, Senior Advisor

• Madiha D. Latif, Director, Cash Management Infrastructure Group

• D. Michael Linder, Assistant Commissioner (Public Debt Accounting)

• Justin Marsico, Chief Data Officer (Deputy Assistant Commissioner)

• Nathaniel Reboja, Deputy Assistant Commissioner for Information Services

• Sandra Paylor, Assistant Commissioner Federal Finance

• Alyssa W. Riedl, Deputy Assistant Commissioner (Retail Securities Services)

• Vona Susan Robinson, Regional Financial Center Executive Director (Kansas City)

• Tamela Saiko, Deputy Assistant Commissioner (Fiscal Accounting Operations)

• Lori Santamorena, Executive Director (Government Securities Regulations Staff)

• Dara N. Seaman, Senior Advisor

• Thomas T. Vannoy, Deputy Assistant Commissioner (Wholesale Securities Services)

• Daniel J. Vavasour, Senior Advisor

DATES: Membership is effective on the date of this notice.

FOR FURTHER INFORMATION CONTACT: Julia J. Markham or Kimberly Jackson, Office of Executive Resources, 1500 Pennsylvania Avenue NW, ATTN: 1722 Eye Street, 9th Floor, Washington, DC 20220, Telephone: 202-622-0774.

Kimberly Jackson,
Human Resources Specialist, Office of Executive Resources.

[FR Doc. 2022-20895 Filed 9-27-22; 8:45 am]

BILLING CODE 4810-AK-P